DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Ryan White CARE Act: Title III Client-level Demonstration Project (CDP)—New

The CDP was originally established in 1994 to collect information from grantees and their subcontracted service providers funded under Titles I and II of the Ryan White Comprehensive AIDS Resources Emergency (CARE) Act of 1990, as amended by the Ryan White CARE Act Amendments of 1996 (codified under Title XXVI of the Public Health Service (PHS) Act). This new effort will collect client level data from a sample of Ryan White CARE Act Title III Grantees. The HRSA's HIV/AIDS Bureau administers funds for all titles of the CARE Act. The Title III program is authorized by section 2651 of the PHS Act.

The PHS Act specifies that HRSA is responsible for the administration of grant funds, the allocation of funds, the evaluation of programs for the population served, and the improvement of the quantity and quality of care. Accurate records on the grantees receiving CARE Act funding, the services provided, and the clients served are critical to the implementation of the legislation and thus are necessary for HRSA to fulfill its responsibilities. The information requested is the minimum necessary to perform the evaluation and oversight function.

Client level information will be collected from a sample of Title III CARE Act funded grantees regarding the number of clients served, services provided, demographic information about clients served, and health status of clients served. In addition, client level information will be collected that measures mortality status and additional indicators of health status and whether standards of care are being followed by providers.

The primary purposes of the CDP are to examine client level demographic and service data on HIV/AIDS infected/affected clients being served by the Ryan White CARE Act and demonstrate the usefulness of these data for planning and evaluation purposes at both the local and national levels. Through this system, HRSA seeks to supplement the information collected in the CARE Act Data Report (CADR). Because there is no nationwide acceptance of client level reporting for HIV/AIDS services, the CADR collects data aggregated at the grantee level and contains duplicated counts of clients who have received services from more than one provider during a given reporting period.

Based on data from eligible grantees, the number of clients that a grantee serves would average about 250. About 2 hours is required annually to respond to these questions.

The burden estimate for this project is as follows:

Grantee | Number of respondents | Responses per respondent | Total responses | Burden hour per respondent | Total burden hour
<500 Clients | 15 | 250 | 3,750 | 2 | 7,500
500+ Clients | 10 | 1,232 | 12,320 | 2 | 24,640
Total | 25 |  | 16,070 |  | 32,140

Written comments and recommendations concerning the proposed information collection should be sent within 30 days of this notice to: Allison Eyte, Human Resources and Housing Branch, Office of Management and Budget, New Executive Office Building, Room 10235, Washington, DC 20503, Fax Number, (202) 395-6974.

Dated: June 17, 2003.
Jane M. Harrison,
Director, Division of Policy Review and Coordination.

[FR Doc. 03-15820 Filed 6-23-03; 8:45 am]

BILLING CODE 4165-15-P